DEPARTMENT OF ENERGY

Federal Energy Regulatory Commission

[Project No. 803-087]

Butte County, CA; Notice of Availability of Environmental Assessment

December 29, 2008.

In accordance with the National Environmental Policy Act (NEPA) of 1969 and the Federal Energy Regulatory Commission's (Commission) regulations, 18 CFR part 380 (Order No. 486, 52 FR 47879), the Office of Energy Projects has reviewed the application for a new license for the DeSabla-Centerville Hydroelectric Project (project), located on Butt Creek in Butt County, California, and has prepared an Environmental Assessment (EA). In the EA, Commission staff analyze the potential environmental effects of licensing the project and conclude that issuing a license for the project, with appropriate environmental measures, would not constitute a major federal action significantly affecting the quality of the human environment.

A copy of the EA is on file with the Commission and is available for public inspection. The EA may also be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659.

Any comments should be filed within 60 days from the issuance date of this notice, and should be addressed to the Secretary, Federal Energy Regulatory Commission, 888 First Street, NE., Room 1-A, Washington, DC 20426. Please affix “DeSabla-Centerville Hydroelectric Project No. 803-087” to all comments. Comments may be filed electronically via Internet in lieu of paper. The Commission strongly encourages electronic filings (See 18 CFR 385.2001(a)(1)(iii) and the instructions on the Commission's Web site under the “eFiling” link.) For further information, contact Kenneth Hogan at (202) 502-8434.

Kimberly D. Bose,
Secretary.

[FR Doc. E8-31312 Filed 1-2-09; 8:45 am]

BILLING CODE 6717-01-P